FEDERAL MARITIME COMMISSION

Ocean Transportation Intermediary License Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants:

Interglobal Logistics Corp., 430 West Merrick Road, Suite 15, Valley Stream, NY 11580, Officers: Cora Scotti, Vice President (Qualifying Individual), Danny Hoyos, President

Transportes Argenta, Inc., 8211 NW 68th Street, Miami, FL 33166, Officer: Elizabeth Castano, President (Qualifying Individual)

Combined Cargo International, Inc., 14330 W. Sylvanfield, Houston, TX 77014, Officers: Dianna M. Potter, President (Qualifying Individual), Barry Irish, Vice President

Fax Cargo Corporation, 8900 NW 35th Lane, Suite #140, Miami, FL 33172, Officer: Cecil Costadoni, President (Qualifying Individual)

J & B Logistics Ltd., 179-14 149th Road, #2nd Fl., Jamaica, NY 11434, Officer: Paul Chinho, Ree (Qualifying Individual)

Non-Vessel Operating Common Carrier and Ocean Freight Forwarder Transportation Intermediary Applicants:

Daily Freight International Services, Inc., 1941 N.W. 37th Avenue, Miami, FL 33172, Officers: Mario D. Galindo, President (Qualifying Individual), Maria E. Galindo, Vice President

Bellville Roadair International LLC, 158 Paris Street, Newark, NJ 07105, Officers: Morten Olesen, President (Qualifying Individual), Jeff Cullen, CEO

Cargo Unlimited, Inc., 98023 Westminster Drive, Humble, TX 77338, Officers: Cynthia P. Pira, President (Qualifying Individual), Emily Metcalf Zugar, Vice President

Trade Impact, LLC, 3201 1st Avenue So., Suite 209, Seattle, WA 98134, Officers: Erik Saathoff, Director (Qualifying Individual), Roger Skistimas, Managing Member

Ocean Freight Forwarder—Ocean Transportation Intermediary Applicants:

Global Forwarding Corp., 10420 N.W. 37th Terrace, Miami, FL 33178, Officer: Rebeka Shatzkamer, President (Qualifying Individual)

OMJ International Freight Corp., 2401 N.W. 93rd Avenue, Miami, FL 33172, Officer: Omar Collado, Owner (Qualifying Individual)

Aeromundo Express, Inc., 8282 NW 14th Street, Miami, FL 33126, Officer: Cristino E. Luna, President (Qualifying Individual)

Dated: February 2, 2001.
Bryant L. VanBrakle,
Secretary.

[FR Doc. 01-3217 Filed 2-7-01; 8:45 am]

BILLING CODE 6730-01-P